DEPARTMENT OF ENERGY

Federal Energy Regulatory Commission

[Docket No. RP05-230-000]

Northern Natural Gas Company; Notice of Limited Waiver

March 17, 2005.

Take notice that on March 14, 2005, Northern Natural Gas Company (Northern) tendered for filing a petition for a limited waiver of Northern's FERC Gas Tariff to allow Northern's customers one additional business day to review preliminary commodity invoices and for Northern to produce final invoices as part of the transition to a new gas accounting system, and one extra business day for customers to trade imbalances since the commodity billing information affects shipper imbalance statement.

Northern states that the one extra business day will allow final commodity invoices and transportation imbalance statements for February 2005 production to be tendered on the 10th business day of March 2005, rather than the 9th business day and for imbalance trading to be completed by the 18th business day, rather than the 17th business day. Northern states that the one-day extension will help to assure that customers receive accurate commodity invoices for February 2005 and have an appropriate amount of time to trade any imbalances.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in, on, or before the date as indicated below. Anyone filing an intervention or protest must serve a copy of that document on the applicant. Anyone filing an intervention or protest on or before the intervention or protest date need not serve motions to intervene or protests on persons other than the applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on March 25, 2005.

Magalie R. Salas,
Secretary.

[FR Doc. E5-1270 Filed 3-22-05; 8:45 am]

BILLING CODE 6717-01-P